DEPARTMENT OF AGRICULTURE

Forest Service

Lost Cabin Mine, Medicine Bow-Routt National Forests, Carbon County, WY

AGENCY: Forest Service, USDA.

ACTION: Notice of intent to prepare an environmental impact statement.

SUMMARY: The Forest Service will prepare an Environmental Impact Statement (EIS) to assess and disclose the environmental effects of lode and placer exploration at the Lost Cabin Mine. The Lost Cabin Mine is located in Township 14 North, Range 86 West, Sections 1 and 12 in Carbon County, Wyoming. Mining operations would include repairing three existing shafts and obtaining ore samples from four un-patented lode claims. A small loader and track-hoe would be used to obtain the samples, and samples would be crushed on-site and transported from the area using four-wheel and six-wheel all terrain vehicles (ATV's). Approximately 1.6 miles of an existing, closed road (Way 4170) that historically accessed the mine area would need to be widened and repaired to allow access to the site. Roughly ⅛ mile of road would also need to be constructed to link the four un-patented lode claim sites.

An historical search of Government Land Office plats indicate that a “wood road” accessed the mine site as early as 1899. By 1901, an “improved road” that accessed Vulcan Mountain from Saratoga, Wyoming was in place. This road also provided a direct link with the Southern Wyoming Tramway which carried mined ore to a smelter in Encampment, Wyoming. It further provided access to other major mining communities in the near vicinity. Although the road is depicted on Forest Service maps through 1956, more recent maps do not indicate that it is still a part of the Forest Transportation System.

The Lost Cabin Mine is located in the Mowry Peak inventoried roadless area, as described in Appendix G to the Final EIS for the Medicine Bow National Forest Land and Resource Management Plan. If the project is approved as proposed, the proponent would be allowed to widen and repair two miles of an existing, closed road and construct roughly ⅛ mile of road within the roadless area boundary. The EIS will comply with the requirements of the National Environmental Policy Act (42 U.S.C. sections 4321-4370a), the National Forest Management Act (16 U.S.C. 1600-1614), and the U.S. Mining Laws (30 U.S.C. 21-54), and their implementing regulations.

Project Purpose: The purpose of the Lost Cabin Mine analysis is to determine how the surface use connected with operations authorized by the United States mining laws (30 U.S.C. 21-54), which grant a statutory right to enter upon public lands to search for mineral deposits, shall be conducted to minimize adverse environmental impacts on National Forest System surface resources. It is not the purpose of the analysis to determine management of mineral resources. The responsibility for that determination lies with the Secretary of the Interior.

DATES: Comments concerning the proposal and the scope of the analysis will be accepted and considered at any time after publication of this notice in the Federal Register and prior to a decision being made. All comments and suggestions are welcome.

ADDRESSES: Send written comments to Melissa Martin, Medicine Bow-Routt National Forest Supervisor's Office, 2468 Jackson Street, Wyoming 82070. Electronic mail (e-mail) may be sent to mmmartin@fs.fed.us and FAX may be sent to (307) 745-1398. Telephone: (307) 745-2371.

FOR FURTHER INFORMATION CONTACT: Tom Florich, Recreation and Lands Program Manager, Medicine Bow-Routt National Forests, 2468 Jackson Street, Laramie, Wyoming, 82070. Telephone: (307) 745-2435.

SUPPLEMENTARY INFORMATION:

Decision To Be Made

The Responsible Official will consider the results of the analysis and its findings and then document the final decision in a Record of Decision (ROD). The decision will include a determination as to where and under what terms and conditions the proponent may access the Lost Cabin Mine while also protecting the surface natural resources in the area and providing for public safety.

Responsible Official

Rick Cables, Regional Forester, USDA Forest Service, Rocky Mountain Region, 740 Simms Street, Golden, Colorado 80401 is the official responsible for making the decision on this action. He will document his decision and rationale in a Record of Decision.

Preliminary Issues

Proposed construction/reconstruction of access roads to the lode sites could alter the character of the Mowry Peak roadless area.

Public Involvement

Public scoping describing the Plan of Operations associated with the Lost Cabin Mine was initiated on January 7, 2002, and 17 comment letters were received. All comments received from the January 7, 2002 scoping effort will be combined with comments received as a result of this Notice of Intent. Comments from both scoping efforts will be reviewed to identify potential issues for this analysis. Since the previously received comments will be incorporated into this analysis, individuals who responded to the January 7, 2002 scoping request need to provide comments at this time only if they wish to provide additional information to what they previously submitted. While comments are welcome at any time, comments received within 30 days of the publication of this notice in the Federal Register will be most useful for the identification of issues and the analysis of alternatives. As previously mentioned, comments may be sent by electronic mail (e-mail) to mmmartin@fs.fed.us. Written comments may be mailed to the Medicine Bow-Routt National Forests, 2468 Jackson Street, Laramie, Wyoming 82070, attention: Melissa Martin. Please reference the Lost Cabin Mine EIS on the subject line. The name and mailing address of the commenter should be provided with their comments so that future documents pertaining to this environmental analysis and the decision can be provided to interested parties.

Estimated Dates for Filing

The draft EIS is expected to be filed with the Environmental Protection Agency (EPA) and available for public review during July, 2002. At that time, the EPA will publish a Notice of Availability (NOA) of the draft EIS in the Federal Register. The comment period on the draft EIS will be for a period of not less than 45 days from the date the EPA publishes the NOA in the Federal Register. It is important that those interested in the management of this area to comment at that time. The final EIS is expected to be available in October 2002. In the final EIS, the Forest Service will respond to any comments received during the public comment period that pertain to the environmental analysis. Those comments and the Forest Service responses will be disclosed and discussed in the final EIS and will be considered when the final decision about this proposal is made.

Release of Names

Comments received in response to this solicitation, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27 (d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

The Public's Obligation To Comment

The Forest Service believes it is important to give reviewers an early notice of several court rulings related to public participation in the environmental review process. First, reviewers of draft EIS's must structure their participation in the environmental review of the proposal so that it is meaningful and alerts an agency to the reviewer's position and contentions. Vermont Yankee Nuclear Power Corp. v. NRDC, 435 U.S. 519, 553 (1978). Also, environmental objections that could be raised during the draft EIS stage, but are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). As a result of these previous court rulings, it is very important that those interested in this proposed action participate by the close of the 45-day comment period so that substantive comments and objections are made available to the Forest Service at a time when it can meaningfully consider them and respond to them in the final EIS. To assist the Forest Service in identifying and considering issues and concerns related to the proposed action, comments on this draft EIS should be as specific as possible. It is also helpful if comments refer to specific pages or chapters of the draft document. Comments may also address the adequacy of the Draft Environmental Impact Statement or the merits of the alternatives displayed in the document. Reviewers should refer to the Council on Environmental Quality Regulations at 40 CFR 1503.3 for implementing the procedural provisions of the National Environmental Policy Act for addressing these points. Please note that any comments that are submitted in relation to this draft EIS will be considered public information.

Dated: March 12, 2002.
Rick Cables,
Regional Forester.

[FR Doc. 02-6674 Filed 3-19-02; 8:45 am]

BILLING CODE 3410-GM-P